FEDERAL RESERVE SYSTEM

Consumer Advisory Council; Notice of Meeting of the Consumer Advisory Council

The Consumer Advisory Council will meet on Thursday, June 18, 2009. The meeting, which will be open to public observation, will take place at the Federal Reserve Board's offices in Washington, DC, in Dining Room E on the Terrace Level of the Martin Building. Anyone planning to attend the meeting should, for security purposes, register no later than Tuesday, June 16, by completing the form found online at: https://www.federalreserve.gov/secure/forms/cacregistration.cfm.

Additionally, attendees must present photo identification to enter the building.

The meeting will begin at 9 a.m. and is expected to conclude at 12:30 p.m. The Martin Building is located on C Street, NW., between 20th and 21st Streets.

The Council's function is to advise the Board on the exercise of the Board's responsibilities under various consumer financial services laws and on other matters on which the Board seeks its advice. Time permitting, the Council will discuss the following topics:

• The Community Reinvestment Act

Members will discuss the future of the Community Reinvestment Act, including possible changes in light of developments in the financial services industry.

• Credit scoring

Members will discuss various issues related to credit scoring, including the impact of changes in the credit environment on scores.

• Neighborhood and community stabilization

Members will discuss strategies and challenges in the effort to stabilize communities affected by foreclosures, including the implementation of the Neighborhood Stabilization Program.

• Foreclosure prevention

Members will discuss loss-mitigation efforts, the performance of modified mortgages, and other issues related to foreclosures.

Reports by committees and other matters initiated by Council members also may be discussed.

Persons wishing to submit views to the Council on any of the above topics may do so by sending written statements to Jennifer Kerslake, Secretary of the Consumer Advisory Council, Division of Consumer and Community Affairs, Board of Governors of the Federal Reserve System, Washington, DC 20551. Information about this meeting may be obtained from Ms. Kerslake, 202-452-6470.

Board of Governors of the Federal Reserve System, May 26, 2009.
Robert deV. Frierson,
Deputy Secretary of the Board.

[FR Doc. E9-12516 Filed 5-28-09; 8:45 am]

BILLING CODE 6210-01-P